DEPARTMENT OF COMMERCE

National Oceanic and Atmospheric Administration

Omnibus Notice for Compliance of National Marine Fisheries Service Permits With the Debt Collection Improvement Act of 1996

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

Statutory Authorities:

Paperwork Reduction Act of 1995, 5 CFR Chapter III, Part 1320.

Debt Collection Improvement Act of 1996, 31 U.S.C. 7701.

SUPPLEMENTARY INFORMATION: All NOAA National Marine Fisheries Service (NMFS) permit forms not currently requiring Tax Identifying Numbers (Employer ID Number and/or Social Security Number; and Date of Incorporation and/or Date of Birth) will be revised to require this information, following the procedures of the Paperwork Reduction Act. This notice applies to all NMFS permits information collections for which rulemaking is not needed in conjunction with such revisions. Proposed rules will be issued for all collections whose regulations require amendment for such revisions. The primary purpose for requiring this information is to comply with the Debt Collection Improvement Act of 1996, 31 U.S.C. Section 7701.

This notice applies to the following NOAA NMFS permit collections—

OMB Control Numbers:

1. 0648-0272, Alaska Individual Fishing Quotas (IFQs) for Pacific Halibut, Sablefish, and Crab;

2. 0648-0334, Alaska License Limitation Program for Groundfish, Crab, and Scallops;

3. 0648-0398, Alaska Individual Fishing Quota Cost Recovery Program Requirements;

4. 0648-0514, Alaska Region BSAI Crab Permits;

5. 0648-0545, Alaska Rockfish Pilot Program; 0648-203, Northwest Region Federal Fisheries Permits;

6. 0648-0399, Limits on Applications of Take Prohibitions (Threatened Salmonids);

7. 0648-0402, Application and Reports for Scientific Research and Enhancement Permits under the Endangered Species Act;

8. 0648-0463, Pacific Islands Region Coral Reef Ecosystems Permit Form;

9. 0648-0490, Pacific Islands Region Permit Family of Forms;

10. 0648-0471, Highly Migratory Species Scientific Research Permits, Exempted Fishing Permits, and Letters of Authorization; and

11. 0648-0293, Application for Commercial Fisheries Authorization under Section 118 of the Marine Mammal Protection Act.

All but four of these eleven permit collections currently require some or most of this information.

The primary purpose of these revisions is to bring NMFS into compliance with the Debt Collection Improvement Act (DCIA) of 1996, 31 U.S.C. Section 7701. This action is in line with the Department of Commerce Interim Final Rule 0648-AA24 (April 16, 2007), which revises and replaces Department of Commerce debt collection regulations to conform to the DCIA.

In addition, this action will add to the developing consistency of permit requirements across NMFS regions and divisions, ultimately reducing the public's burden in completing these forms (a significant number of vessels fish in more than one region or division).

This action will add no burden or cost to the public. There should be no research or retrieval required for any of the information. As the information will be added to existing forms, no additional transmission costs will be incurred.

DATES: Written comments must be submitted on or before August 6, 2007.

ADDRESSES: Direct all written comments to Diana Hynek, Departmental Paperwork Clearance Officer, Department of Commerce, Room 6625, 14th and Constitution Avenue, NW., Washington, DC 20230 (or via the Internet at dHynek@doc.gov).

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of these information collections; they also will become a matter of public record.

Dated: May 31, 2007.
Gwellnar Banks,
Management Analyst, Office of the Chief Information Officer.

[FR Doc. E7-10870 Filed 6-5-07; 8:45 am]

BILLING CODE 3510-22-P